DEPARTMENT OF HOMELAND SECURITY

U.S. Citizenship and Immigration Services

[CIS No. 2831-25; DHS Docket No. USCIS-USCIS-2013-0001]

RIN 1615-ZB72

Termination of the Designation of Syria for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Syria for Temporary Protected Status. The designation of Syria is set to expire on September 30, 2025. After reviewing country conditions and consulting with appropriate U.S. Government agencies, the Secretary determined that Syria no longer continues to meet the conditions for the designation for Temporary Protected Status. The Secretary, therefore, is terminating the Temporary Protected Status designation of Syria as required by statute. This termination is effective November 21, 2025. After November 21, 2025, nationals of Syria (and aliens having no nationality who last habitually resided in Syria) who have been granted Temporary Protected Status under Syria's designation will no longer have Temporary Protected Status.

DATES: The designation of Syria for Temporary Protected Status is terminated, effective at 11:59 p.m., local time, on November 21, 2025.

FOR FURTHER INFORMATION CONTACT: Humanitarian Affairs Division, Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

State—Department of State

USCIS—U.S. Citizenship and Immigration Services

U.S.C.—United States Code

What is temporary protected status?

The Immigration and Nationality Act (INA) authorizes the Secretary of Homeland Security, after consultation with appropriate agencies of the U.S. Government, to designate a foreign state (or part thereof) for Temporary Protected Status if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status to determine whether the conditions for the Temporary Protected Status designation continue to be met. See INA sec. 244(b)(3)(A), 8 U.S.C. 1254a(b)(3)(A). If the Secretary determines that the conditions in the foreign state continue to meet the specific statutory criteria for the designation, Temporary Protected Status will be extended for an additional period of 6 months or, in the Secretary's discretion, 12 or 18 months. See INA sec. 244(b)(3)(A), (C), 8 U.S.C. 1254a(b)(3)(A), (C). If the Secretary determines that the foreign state no longer meets the conditions for Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated by the Secretary for Temporary Protected Status under the INA, or to eligible aliens without nationality who last habitually resided in the designated country. During the designation period, Temporary Protected Status beneficiaries are eligible to remain in the United States, may not be removed, and are authorized to work and obtain an Employment Authorization Document (EAD) so long as they continue to meet the requirements of Temporary Protected Status. Temporary Protected Status beneficiaries may also apply for and be granted travel authorization as a matter of discretion. The granting of Temporary Protected Status does not result in or lead to lawful permanent resident status or any other immigration status. To qualify for Temporary Protected Status, beneficiaries must meet the eligibility standards at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of Syria for Temporary Protected Status

Syria was initially designated for Temporary Protected Status on March 29, 2012, based on a determination that there were extraordinary and temporary conditions in Syria that prevented nationals of Syria from returning in safety and that permitting such aliens to remain temporarily in the United States would not be contrary to the national interest of the United States.¹ Following the initial designation, the former Secretary extended and newly designated Syria for Temporary Protected Status three times based on ongoing armed conflict and extraordinary and temporary conditions: (1) from October 1, 2013 through March 31, 2015,² (2) from April 1, 2015 through September 30, 2016,³ and (3) from October 1, 2016 through March 31, 2018.⁴ The Department referred to these actions as redesignations in the published Federal Register notices. Thereafter, the former Secretary extended Temporary Protected Status for Syria from April 1, 2018 through September 30, 2019,⁵ and again from October 1, 2019 through March 31, 2021.⁶ The former Secretary extended and newly designated Temporary Protected Status for Syria from March 31, 2021 through September 30, 2022,⁷ and from October 1, 2022 through March 31, 2024 ⁸ based on ongoing armed conflict and extraordinary and temporary conditions. Most recently, former Secretary Mayorkas extended Syria's designation and newly designated Syria for Temporary Protected Status based on ongoing armed conflict and extraordinary and temporary conditions from April 1, 2024 to September 30, 2025.⁹

¹ Designation of Syrian Arab Republic for Temporary Protected Status, 77 FR 19026 (Mar. 29, 2012).

² Extension and Redesignation of Syria for Temporary Protected Status, 78 FR 36223 (June 17, 2013).

³ Extension and Redesignation of the Syrian Arab Republic for Temporary Protected Status, 80 FR 245 (Jan. 5, 2015).

⁴ Extension and Redesignation of Syria for Temporary Protected Status, 81 FR 50533 (Aug. 1, 2016).

⁵ Extension of the Designation of Syria for Temporary Protected Status, 83 FR 9329 (Mar. 5, 2018).

⁶ Extension of the Designation of Syria for Temporary Protected Status, 84 FR 49751 (Sept. 23, 2019).

⁷ Extension and Redesignation of Syria for Temporary Protected Status, 86 FR 14946 (Mar. 19, 2021).

⁸ Extension and Redesignation of Syria for Temporary Protected Status, 87 FR 46982 (Aug. 1, 2022).

⁹ Extension and Redesignation of Syria for Temporary Protected Status, 89 FR 5562 (Jan. 29, 2024).

Secretary's Authority To Terminate the Designation of Syria for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that the foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as EADs, issued or renewed after the effective date of termination. See id.; see also INA sec. 244(d)(3), 8 U.S.C. 1254a(d)(3) (providing the Secretary the discretionary “option” to allow for a certain “orderly transition” period if she determines it to be appropriate).

Reasons for the Secretary's Termination of the Temporary Protected Status Designation for Syria

Consistent with INA section 244(b)(3)(A), 8 U.S.C. 1254a(b)(3)(A), after consulting with appropriate U.S. Government agencies, the Secretary reviewed country conditions in Syria and considered whether Syria continues to meet the conditions for the designation under INA section 244(b)(1)(C), 8 U.S.C. 1254a(b)(1)(C). This review included examining: (a) whether extraordinary and temporary conditions in Syria that prevent Syrian nationals from returning in safety continue to exist, and (b) if permitting Syrian nationals to remain temporarily in the United States is contrary to the national interest of the United States. The Secretary also examined: (c) whether there is ongoing armed conflict within the state, and (d) whether, due to such conflict, requiring aliens who are nationals of that state to return would pose a serious threat to their personal safety.

Between 2011 and 2024, the civil war in Syria displaced over half of the country's population, resulted in the deaths of more than 500,000 people, destroyed critical infrastructure, and significantly weakened the Syrian economy.¹⁰ On December 8, 2024, the Bashar al-Assad regime fell following a ten-day offensive carried out by opposition forces, Islamist militant group Hay'at Tahrir al-Sham and the Syrian National Army.¹¹ Interim President Ahmed al-Sharaa took steps to establish governing infrastructure including announcing the formation of a 23-member cabinet to replace the caretaker government that had been in place since the fall of the Assad regime,¹² and a constitutional declaration which established a transitional legal framework for the post-Assad era.¹³ On May 14, 2025, President Trump met with interim President al-Sharaa in Saudi Arabia and announced that he would be lifting sanctions and normalizing relations with Syria.¹⁴ On June 30, 2025, President Trump issued an Executive Order revoking six previous Syria-related Executive Orders that imposed comprehensive economic and financial sanctions and ended the national emergency declared under those orders.¹⁵ Following President Trump's instructions in the June 30, 2025 Executive Order, on July 7, 2025, the Department of State (“State”) announced the revocation of the Foreign Terrorist Organization designation of al-Nusrah Front, also known as Hay'at Tahrir al-Sham, effective July 8, 2025.¹⁶

¹⁰ Library of Congress, Congressional Research Service, “Syria: Transition and U.S. Policy” Mar. 11, 2025, https://www.congress.gov/crs-product/RL33487.

¹¹ Council on Foreign Relations, “Conflict in Syria” May 14, 2025, https://www.cfr.org/global-conflict-tracker/conflict/conflict-syria.

¹² International Crisis Group, “What Lies in Store for Syria as a New Government Takes Power?” Apr. 25, 2025, https://www.crisisgroup.org/middle-east-north-afiica/east-mediterranean-mena/syria/what-lies-store-syria-new-govemment-takes-power.

¹³ Id.

¹⁴ Council on Foreign Relations, “Trump Meets Syria's Al-Sharaa” May 14, 2025, https://www.cfr.org/articie/trump-meets-syrias-al-sharaa.

¹⁵ See Providing for the Revocation of Syria Sanctions, 90 FR 29395 (July 3, 2025).

¹⁶ See Revocation of the Foreign Terrorist Organization Designation of al-Nusrah Front, Also Known as Hay'at Tahrir al-Sham, 90 FR 30187 (July 8, 2025).

Based on the Department's review, the Secretary has determined that the termination of the Syria Temporary Protected Status designation is required. The Secretary has determined that, while some sporadic and episodic violence occurs in Syria, the situation no longer meets the criteria for an ongoing armed conflict that poses a serious threat to the personal safety of returning Syrian nationals. From 2011 to 2024, civil war engulfed Syria.¹⁷ Over the years, the conflict evolved from a protest movement to a civil war. Within that context, opposition groups formed and splintered, Islamic militants such as Al-Qaeda and the Islamic State of Iraq and Syria or ISIS exacerbated the violence, and many countries and foreign fighters joined the war either directly or by proxy.¹⁸ Since al-Assad regime's ouster in December 2024, the nature of violence in Syria has significantly changed; a national-level war shifted to localized clashes and then lessened to sporadic, isolated episodes of violence. Instead of nationwide hostilities, violence now takes form in localized security and insurgent flare-ups, particularly involving former regime loyalists, sectarian tensions and other skirmishes.¹⁹ These events underscore continuing security challenges, but not full-scale conflict. Interim President al-Sharaa has established a caretaker cabinet, ratified a constitutional declaration granting executive authority for a five-year transitional period, and initiated mechanisms like the National Dialogue Conference.²⁰ These steps demonstrate an effort to move the country to a stable institutional governance, not a perpetuation of armed conflict. As outlined, Syria's long-time dictator was deposed, a transitional political structure has been installed, large-scale military campaigns have ceased, and displaced populations are returning. While scattered episodes of violence persist, the structural transformation in Syria aligns far more closely with the post-conflict transitional phase of a nation rather than ongoing armed conflict.

¹⁷ Library of Congress, Congressional Research Service, “Syria: Transition and U.S. Policy” Mar. 11, 2025. https://www.congress.gov/crs-product/RL33487.

¹⁸ Council on Foreign Relations, “Syria's Civil War: The Descent into Horror” Dec. 20, 2024. https://www.cfr.org/article/syrias-civil-war.

¹⁹ Library of Congress, Congressional Research Service, “Syria: Transition and U.S. Policy” Mar. 11, 2025. https://www.congress.gov/crs-product/RL33487.

²⁰ International Crisis Group, “What Lies in Store for Syria as a New Government Takes Power?” Apr. 25, 2025. https://www.crisisgroup.org/middle-east-north-africa/east-mediterranean-mena/syria/what-lies-store-syria-new-government-takes-power.

Further, regarding the extraordinary and temporary conditions, although most Syrians require some form of humanitarian assistance,²¹ this does not prevent nationals from returning in safety, as evidenced by the U.N. High Commissioner for Refugees' estimate that “since 2024, over 1.2 million Syrians have returned to Syria. Meanwhile, internal returns continue, with 1,763,513 internally displaced people (IDP) returnees since December 2024. . . .” ²²

²¹ United Nations Office for the Coordination of Humanitarian Affairs, “Syrian Arab Republic: At a glance, urgently prioritized humanitarian response priorities 2025” July 24, 2025, https://reliefweb.int/node/4167057.

²² UNHCR, “Press Releases: UNHCR deputy chief calls for support to end displacement for millions of Syrians” Sept. 2, 2025, https://www.unhcr.org/us/news/press-releases/unhcr-deputy-chief-calls-support-end-displacement-millions-syrians#:~:text=%E2%80%9CI%20saw%20up%2Dclose%20how,seeing%20high%20numbers%20of%20returns.

Based on the Department's review, the Secretary has further determined that, even assuming the relevant conditions in Syria remain both “extraordinary” and “temporary,” termination of the Syria Temporary Protected Status designation is required because it is contrary to the national interest to permit Syrian nationals (or aliens having no nationality who last habitually resided in Syria) to remain temporarily in the United States.²³

²³ See INS v. Bagamasbad, 429 U.S. 24, 25 (1976) (per curiam) (“As a general rule courts and agencies are not required to make findings on issues the decision of which is unnecessary to the results they reach.”).

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).²⁴ Determining whether permitting a class of aliens to remain temporarily in the United States is contrary to the U.S. national interest therefore calls upon the Secretary's expertise and discretionary judgment, informed by her consultations with appropriate U.S. Government agencies and her review of various considerations.

²⁴ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

There are significant public safety and national security risks associated with the continued designation of Temporary Protected Status for Syria. Syria has been on State's list of state sponsors of terrorism since the list's inception in 1979 “because of its continued support of terrorism and terrorist groups, its former occupation of Lebanon, its pursuit of weapons of mass destruction and missile programs and use of chemical weapons, and its ongoing efforts to undermine U.S. and international stabilization activities in Iraq and Syria.” ²⁵ The U.S. Embassy in Damascus suspended operations in February 2012, and diplomatic relations were severed for over a decade.²⁶ This lack of diplomatic presence severely limits the U.S. government's ability to access reliable Syrian records. Furthermore, the caliber of the civil and criminal history records is not comprehensive, accurate, or reliable, making meaningful vetting virtually impossible. Even if there was an embassy in place, the United States cannot adequately vet Syrian nationals for identity, criminal history, or potential terrorist affiliations, posing an ongoing threat to public safety and national security of the United States. In a January 20, 2025 Executive Order, President Trump instructed the Secretary of State, Attorney General, Secretary of Homeland Security, and the Director of National Intelligence to “vet and screen to the maximum degree possible all aliens who intend to be admitted, enter, or are already inside the United States, particularly those aliens coming from regions or nations with identified security risks.” ²⁷ Given Syria's continued designation as a state sponsor of terrorism ²⁸ and the lack of access to verifiable information, the United States cannot adequately vet Syrian nationals for identity, criminal history, or potential terrorist affiliations, posing an ongoing threat to public safety and national security.

²⁵ U.S. Dep't of State, “U.S. Relations With Syria” Oct. 17, 2023, https://2021-2025.state.gov/u-s-relations-with-syria/.

²⁶ Id.

²⁷ Protecting the United States From Foreign Terrorists and Other National Security and Public Safety Threats, 90 FR 8451 (Jan. 30, 2025).

²⁸ As of the time of writing. Syria remains designated as a State Sponsor of Terrorism. On June 30, 2025, President Trump issued an Executive Order directing the Secretary of State, in consultation with the Secretary of the Treasury and the Attorney General, to take appropriate action concerning several terrorism-related designations. These included the designation of Hay'at Tahrir al-Sham as a Foreign Terrorist Organization, the designation of Al-Sharaa as a Specially Designated Global Terrorist, and the reaffirmation of Syria's status as a State Sponsor of Terrorism. Subsequently, State removed Hay'at Tahrir al-Sham from the Foreign Terrorist Organization list. All other designations remain in effect.

These national security and public safety vulnerabilities have already been proven in the United States. In August 2024, a former Syrian government official was indicted in the Central District of California for allegedly lying to United States immigration authorities about his prior role overseeing a detention facility where prisoners, including political dissidents, were subjected to torture and other forms of mistreatment.²⁹ His ability to enter the United States and obtain immigration benefits, despite his leadership role in systemic abuse under the Assad regime, reveals a critical gap in our screening processes with respect to aliens from Syria. Syrians who have participated in or directed acts of torture abroad may continue to pose a threat within the United States, whether through influence in diaspora communities, engagement in coercive or criminal activity, or by undermining the credibility and security of our immigration system. His presence highlights the risk that human rights violators can exploit our immigration system and underscores the real, ongoing threat posed when accountability and thorough vetting is not possible because the U.S. has lacked the tools and partnerships necessary to verify identities or past affiliations of Syrian nationals for over a decade.

²⁹ U.S. Dep't of Justice, “Press Release: Former Syrian Prison Official Charged with Immigration Fraud” Aug. 8, 2024, https://www.justice.gov/usao-cdca/pr/former-syrian-prison-official-charged-immigration-fraud.

In another example, a Syrian national admitted to the U.S. as a refugee in 2016 was later charged in 2019 for “attempting to provide material support and resources to the Islamic State of Iraq and al-Sham (ISIS), a designated foreign terrorist organization” and for “distributing information relating to an explosive, destructive device, or weapon of mass destruction in relation to his plan to attack a church in Pittsburgh.” ³⁰ Furthermore, DHS records indicate there are Syrian nationals (or aliens who last habitually resided in Syria) who are Temporary Protected Status beneficiaries or applicants who are or have been the subject of administrative investigations for fraud, public safety, and national security. The Secretary accordingly took account of those cases in making her determination, as fraud and egregious public safety violations are contrary to the national interest.

³⁰ U.S. Dep't of Justice, “Press Release: Syrian Man Arrested on Terrorism Charges After Planning Attack on Christian Church” June 19, 2019, https://www.justice.gov/archives/opa/pr/syrian-man-arrested-terrorism-charges-after-planning-attack-christian-church.

In Executive Order “America First Policy Directive to the Secretary of State,” President Trump declared “from this day forward, the foreign policy of the United States shall champion core American interests and always put America and American citizens first.” Moreover, it instructed “as soon as practicable, the Secretary of State shall issue guidance bringing the Department of State's policies, programs, personnel, and operations in line with an America First foreign policy, which puts America and its interests first.” ³¹

³¹ See America First Policy Directive to the Secretary of State, 90 FR 8337 (Jan. 29, 2025).

There are compelling foreign policy reasons for ending the Temporary Protected Status designation for Syria. Recent events in Syria have provided a new opportunity for U.S. and Syrian relations, with President Trump expressing a commitment to assisting Syria in its next chapter in the post-Assad era. In his remarks at a United Nations Security Council briefing on the political and humanitarian situation in Syria, the acting U.S. alternate representative stated: “the President wants to see Syria and the entire region thrive. That's why he's made a bold decision on Syria with the hope the new government will take this opportunity to rebuild and take the country from being a source of instability to a source of stability.” ³² Intergovernmental organizations such as the International Organization for Migration celebrated President Trump's decision to lift sanctions on Syria: “The International Organization for Migration (IOM) has welcomed the recent decisions by the European Union and the United States to lift a significant portion of sanctions imposed on Syria. The moves, along with similar decisions taken by the United Kingdom in the past few weeks, opens new possibilities for recovery, return, and regional peacebuilding after more than a decade of conflict. . .” ³³ In a May 27, 2025 State press briefing, a spokesperson said, “the cessation of sanctions against Syria will advance our primary objective: the enduring defeat of the Islamic State by giving the people of Syria a chance for a better future.” ³⁴ As noted above, “since 2024, over 1.2 million Syrians have returned to Syria. Meanwhile, internal returns continue, with 1,763,513 internally displaced people (IDP) returnees since December 2024. . . .” ³⁵ Following a meeting of the Global Coalition to Defeat ISIS Small Group, a State spokesperson released a statement that the members of the coalition “affirmed the Coalition's continuing commitment to counter ISIS/Daesh in post-Assad Syria, including through increased border security and information sharing and the return of Syrians, Iraqis, and third country nationals to their communities and countries of origin.” ³⁶ In this context, extending Temporary Protected Status could complicate the administration's broader diplomatic engagement with Syria's transitional government.

³² U.S. Mission to the United Nations, “Remarks by John Kelley, Acting U.S. Alternate Representative, UN Security Council” May 21, 2025, https://usun.usmission.gov/remarks-at-a-un-security-council-briefing-on-the-political-and-humanitarian-situations-in-syria-12/.

³³ IOM, “IOM Welcomes EU and US Decisions to Lift Sanctions on Syria” May 27, 2025, https://syria.iom.int/news/iom-welcomes-eu-and-us-decisions-lift-sanctions-syria.

³⁴ Dep't of State, “Department Press Briefing—May 27, 2025” May 27, 2025, https://www.state.gov/briefings/department-press-briefing-may-27-2025.

³⁵ UNHCR, “Press Releases: UNHCR deputy chief calls for support to end displacement for millions of Syrians” Sept. 2, 2025, https://www.unhcr.org/us/news/press-releases/unhcr-deputy-chief-calls-support-end-displacement-millions-syrians#:~:text=%E2%80%9CI%20saw%20up%2Dclose%20how,seeing%20high%20numbers%20of%20returns.

³⁶ U.S. Department of State, “Media Note—Meeting of the Global Coalition to Defeat ISIS Small Group” June 10, 2025. https://www.state.gov/releases/office-of-the-spokesperson/2025/06/meeting-of-the-global-coalition-to-defeat-isis-small-group.

In sum, the Secretary's decision to terminate the Temporary Protected Status designation for Syria is grounded in a comprehensive assessment of national interest factors including public safety, national security, and foreign policy as well as an analysis of the nature of the violence in the country today. The significant reduction in armed conflict, from a previously pervasive civil war to sporadic episodes of violence, shows that violence in Syria no longer constitutes the statutory basis for ongoing armed conflict. Moreover, in light of the continued national security and public safety risks, combined with the foreign policy considerations of sending mixed signals at a pivotal moment in U.S.-Syria relations, extending Temporary Protected Status for Syria is contrary to the U.S. national interest. In considering these factors individually and cumulatively, the Secretary has determined that Syria no longer meets the statutory basis for Temporary Protected Status.

DHS estimates that there are 6,132 ³⁷ current approved beneficiaries under the designation of Syria for Temporary Protected Status. As of September 8, 2025, there are 833 total pending applications for the designation of Syria for Temporary Protected Status.

³⁷ Estimates as of September 8, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an extended “orderly transition” period with respect to the termination and the expiration of any Temporary Protected Status-related documentation, such as EADs. The Secretary has determined, in her discretion, that a 60-day transition period is sufficient and warranted here given the Secretary's finding that continuing to permit Syrian nationals to remain temporarily in the United States is contrary to the U.S. national interest. See INA sec. 244(d)(3), 8 U.S.C. 1254a(d)(3). Accordingly, the termination of the Syria Temporary Protected Status designation will be effective 60 days from this notice's publication date.³⁸

³⁸ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Syria Temporary Protected Status beneficiaries under the designation continue to be employment authorized during the 60-day transition period.³⁹ Accordingly, through this Federal Register notice, DHS automatically extends the validity of certain EADs previously issued under the Temporary Protected Status designation of Syria through November 21, 2025. Therefore, as proof of continued employment authorization through November 21, 2025, Temporary Protected Status beneficiaries can show their EADs that have the notation A-12 or C-19 under Category and a “Card Expires” date of September 9, 2022, March 10, 2024, and September 10, 2025.

³⁹ See INA 244(a)(1)(B), 8 U.S.C. 1254a(a)(1)(B); see also 8 CFR 244.13(b).

The Secretary has considered putative reliance interests in the Syria Temporary Protected Status designation, especially when considering whether to allow for an additional transition period akin to that allowed under certain previous Temporary Protected Status terminations. Temporary Protected Status, as the name itself makes clear, is an inherently temporary status. Temporary Protected Status designations are time-limited and must be periodically reviewed, as frequently as every six months in some cases, and Temporary Protected Status notices clearly notify aliens of the designations' expiration dates. Further, whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the Temporary Protected Status Designation of Syria

By the authority vested in me as Secretary under INA section 244(b)(3), 8 U.S.C. 1254a(b)(3), I have reviewed, in consultation with the appropriate U.S. Government agencies, (a) conditions in Syria; (b) whether permitting nationals of Syria (and aliens having no nationality who last habitually resided in Syria) to remain temporarily in the United States is contrary to the national interest of the United States; and (c) whether Syria is experiencing ongoing armed conflict that poses a serious threat to the personal safety of Syrian nationals. Based on my review, I have determined that Syria no longer continues to meet the conditions for Temporary Protected Status under INA section 244(b)(1)(C), 8 U.S.C. 1254a(b)(1)(C).

Accordingly, I order as follows:

(1) Pursuant to INA section 244(b)(3)(B), 8 U.S.C. 1254a(b)(3)(B), and considering INA section 244(d)(3), 8 U.S.C. 1254a(d)(3), the designation of Syria for Temporary Protected Status is terminated effective at 11:59 p.m., local time, on November 21, 2025.

(2) Information concerning the termination of Temporary Protected Status for nationals of Syria (and aliens having no nationality who last habitually resided in Syria) under the designation will be available at local USCIS offices upon publication of this notice and through the USCIS Contact Center at 1-800-375-5283. This information will also be published on the USCIS website at www.uscis.gov.

Kristi Noem,
Secretary of Homeland Security.

[FR Doc. 2025-18322 Filed 9-19-25; 4:15 pm]

BILLING CODE 9111-97-P